DEPARTMENT OF TRANSPORTATION

Federal Aviation Administration

14 CFR Part 39

[Docket No. FAA-2007-28598; Directorate Identifier 2007-NM-036-AD; Amendment 39-15529; AD 2008-11-07]

RIN 2120-AA64

Airworthiness Directives; Boeing Model 757 Airplanes

AGENCY: Federal Aviation Administration (FAA), DOT.

ACTION: Final rule.

SUMMARY: We are adopting a new airworthiness directive (AD) for all Boeing Model 757 airplanes. This AD requires installation of an automatic shutoff system for the center tank fuel boost pumps, and installation of a placard in the airplane flight deck if necessary. This AD also requires revisions to the Limitations and Normal Procedures sections of the airplane flight manual to advise the flightcrew of certain operating restrictions for airplanes equipped with an automated center tank fuel pump shutoff control. This AD also requires a revision to the Airworthiness Limitations (AWLs) section of the Instructions for Continued Airworthiness to incorporate AWLs No. 28-AWL-20 and No. 28-AWL-26. This AD also requires replacement of the fuel control panel assembly with a modified part, installation of two secondary pump control relays for the center tank fuel pumps, other specified actions, and concurrent modification of the fuel control panel assembly. This AD results from fuel system reviews conducted by the manufacturer. We are issuing this AD to prevent center tank fuel pump operation with continuous low pressure, which could lead to friction sparks or overheating in the fuel pump inlet that could create a potential ignition source inside the center fuel tank; these conditions, in combination with flammable fuel vapors, could result in a center fuel tank explosion and consequent loss of the airplane.

DATES: This AD is effective July 3, 2008.

The Director of the Federal Register approved the incorporation by reference of certain publications listed in this AD as of July 3, 2008.

ADDRESSES: For service information identified in this AD, contact Boeing Commercial Airplanes, P.O. Box 3707, Seattle, Washington 98124-2207.

Examining the AD Docket

You may examine the AD docket on the Internet at http://www.regulations.gov; or in person at the Docket Management Facility between 9 a.m. and 5 p.m., Monday through Friday, except Federal holidays. The AD docket contains this AD, the regulatory evaluation, any comments received, and other information. The address for the Docket Office (telephone 800-647-5527) is the Document Management Facility, U.S. Department of Transportation, Docket Operations, M-30, West Building Ground Floor, Room W12-140, 1200 New Jersey Avenue, SE., Washington, DC 20590.

FOR FURTHER INFORMATION CONTACT: Judy Coyle, Aerospace Engineer, Propulsion Branch, ANM-140S, FAA, Seattle Aircraft Certification Office, 1601 Lind Avenue, SW., Renton, Washington 98057-3356; telephone (425) 917-6497; fax (425) 917-6590.

SUPPLEMENTARY INFORMATION:

Discussion

We issued a notice of proposed rulemaking (NPRM) to amend 14 CFR part 39 to include an airworthiness directive (AD) that would apply to all Boeing Model 757-200, -200CB, -200PF, and -300 series airplanes. That NPRM was published in the Federal Register on July 9, 2007 (72 FR 37132). That NPRM proposed to require installation of an automatic shutoff system for the center tank fuel boost pumps, and installation of a placard in the airplane flight deck if necessary. That NPRM also proposed to require revisions to the Limitations and Normal Procedures sections of the airplane flight manual to advise the flightcrew of certain operating restrictions for airplanes equipped with an automated center tank fuel pump shutoff control. That NPRM also proposed to require a revision to the Airworthiness Limitations (AWLs) section of the Instructions for Continued Airworthiness (ICA) to incorporate AWLs No. 28-AWL-20 and No. 28-AWL-26. That NPRM also proposed to require replacement of the fuel control panel assembly with a modified part, installation of two secondary pump control relays for the center tank fuel pumps, other specified actions, and concurrent modification of the fuel control panel assembly.

Actions Since NPRM Was Issued

On April 29, 2008, we issued AD 2008-10-11, amendment 39-15517, that applies to all Model 757 airplanes. AD 2008-10-11, among other actions, requires revising the AWLs section of the ICA by incorporating AWLs No. 28-AWL-01 through No. 28-AWL-24 of Section 9 of the Boeing 757 Maintenance Planning Document (MPD) Document D622N001-9, Revision March 2008. AD 2008-10-11 also provides the optional action of incorporating AWL No. 28-AWL-26. This AD, however, requires the incorporation of AWLs No. 28-AWL-20 and No. 28-AWL-26 in accordance with paragraphs (j) and (m) of this AD, respectively. Therefore, we have added a new paragraph (q) to this AD specifying that incorporating AWLs No. 28-AWL-20 and No. 28-AWL-26 into the AWLs section of the ICA in accordance with paragraph (g)(3) of AD 2008-10-11 terminates the corresponding actions required by this AD.

Comments

We gave the public the opportunity to participate in developing this AD. We considered the comments received from the four commenters.

Request To Revise the Unsafe Condition

Boeing requests that we clarify the unsafe condition in the summary and in paragraph (d) of the NPRM. Boeing states that the unsafe condition exists when continuous low pressure is indicated during pump operation with no fuel available to cover the pump inlet, and that it does not exist when there is fuel available to cover the pump inlet during pump operation. Boeing suggests using the following statement:

We are issuing this AD to prevent center tank fuel pump operation with continuous low pressure (with no fuel passing through the pump), which could lead to friction sparks or overheating in the fuel pump inlet that could create a potential ignition source inside the center fuel tank. These conditions, in combination with flammable fuel vapors, could result in a center fuel tank explosion and consequent loss of the airplane.

We agree that the unsafe condition is present only when there is no fuel available to cover the pump inlet. When fuel is not covering the pump inlet, the “continuous low pressure” indication will be present. Therefore, we have not added the phrase “with no fuel passing through the pump” to this AD in this regard, since the continuous low pressure indication is integral to describing the unsafe condition. We have, however, revised the summary and paragraph (d) of this AD by replacing “or” with “that” to specify “* * * overheating in the fuel pump inlet that could create a potential ignition source * * * ”

Request To Explain Policy for Alternative Methods of Compliance (AMOCs)

TDG Aerospace requests that we explain our criteria in determining which FAA-approved solutions are specified as a primary means of compliance as opposed to being identified as an AMOC and listed in the AMOC paragraph of an AD. TDG Aerospace states that it would be logical to include all solutions that exist and address an unsafe condition in an AD as a primary means of compliance. TDG Aerospace asserts that, by not doing so, we are failing to provide operators with a comprehensive discussion of the cost and scheduling impact associated with compliance, and that this practice could misrepresent ongoing maintenance and airworthiness limitation requirements. TDG Aerospace also asserts that it appears that preferential bias is shown towards one particular solution, even though two or more other equivalent solutions might exist. TDG Aerospace points to AD 2002-21-06, amendment 39-12912 (68 FR 12802, March 18, 2003), as an example of an AD that lists several equivalent solutions for addressing an unsafe condition.

We find that clarification of the AMOC process is necessary. An AMOC is issued only after an AD has been issued. AMOCs provide an alternative method of compliance to those methods that are cited in the associated AD.

When an unsafe condition is identified, the burden of developing a means for correcting the unsafe condition is placed on the original equipment manufacturer (OEM). Usually, no means for correcting an unsafe condition other than those provided by the OEM exist when we issue an AD. We agree that if multiple solutions exist that have fleet-wide application, such solutions may be cited in an AD. However, such solutions would be included in the AD only as methods of compliance with the requirements of the AD—not as AMOCs.

In cases where a non-OEM solution does not have fleet-wide application, it would not be appropriate to include the solution in the AD. Such solutions are best addressed by requesting approval as AMOCs after the AD has been issued. We disagree that this approach undermines the efficacy of those alternative methods, or shows bias towards the OEM's method. A key aspect of the notice of proposed rulemaking process is to do specifically what the commenter is recommending, which is to provide an opportunity for us to become aware of other potential solutions to an unsafe condition. Any person who might be aware of another means to correct the unsafe condition is free to propose that means during the comment period to the proposed AD. We would then carefully consider the comment before issuing the AD.

Further, we have reviewed AD 2002-21-06, and that AD is in line with this practice. That AD refers to approved AMOCs; however, when a new AD supersedes a previously issued AD, we make an assessment of any AMOCs that may have been approved for the previously issued AD. If appropriate, we include a reference to those AMOCs in the new AD to preclude an affected operator from having to re-apply for AMOC approval.

In this case, we have determined that installing and maintaining TDG Aerospace Universal Fault Interrupter (UFI), in accordance with Supplemental Type Certificate (STC) ST01950LA, would also address the unsafe condition on Model 757-200 and -300 series airplanes. Therefore, we have deleted paragraph (p)(3) of the NPRM and added a new paragraph (p) to this AD specifying that incorporating STC ST01950LA terminates the requirements of paragraphs (g) through (m) of this AD. We have also added a concurrent requirement to paragraph (p) of this AD to install a placard on all airplanes in the operator's fleet not equipped with a UFI or automatic shutoff system.

Request To Clarify the Summary

Boeing requests that we add a statement to the NPRM specifying that this AD will not be extended to the main wing tanks, as discussed in meetings between Boeing and the Seattle Aircraft Certification Office, FAA. Boeing states that AD 2002-24-51, amendment 39-12992 (68 FR 10, January 2, 2003), was based upon discrepancies in the manufacturing process, and that AD 2002-24-51 was later expanded because inspection of in-service units showed that the units could possibly overheat in service or during manufacture. Boeing further states that there is no service history of incidents or accidents on the main wing tanks on Model 757 airplanes to support this AD.

Although we agree that the scope of this AD is not being expanded to address the main wing tanks, revising the summary of this AD is not necessary because it only discusses the center fuel tanks. We have not changed this AD in this regard.

Request To Allow Use of Existing AMOC

Boeing requests that we revise the NPRM to specify that operators may continue using the procedures in the following documents as an AMOC, until an operator has inspected all center tank fuel pumps and modified all airplanes in its fleet: AD 2002-19-52, amendment 39-12900 (67 FR 61253, September 30, 2002), and AD 2002-24-51; or FAA Approval Letter 140S-03-234, dated August 15, 2003. As justification, Boeing states that the AMOC has already been accepted as a valid means of fulfilling the intent of the AD pending hardware installation.

We agree that the procedures in AD 2002-19-52 and AD 2002-24-51, or the procedures approved by FAA Approval Letter 140S-03-234 as an AMOC to AD 2002-19-52 and AD 2002-24-51, continue to be acceptable until all airplanes in an operator's fleet are in compliance with all the requirements of this AD. As stated in the NPRM, installing a placard in accordance with paragraph (e) of AD 2002-19-52 is acceptable for compliance with paragraph (h) of this AD. Also, paragraph (n) of this AD states that accomplishing the actions specified in paragraphs (g), (h), (i), and (j) of this AD terminates the AFM revision specified in paragraph (e) of AD 2002-24-51 for Model 757-200, -200CB, -200PF, and -300 series airplanes that have the automatic shutoff system installed. No change to this AD is necessary in this regard.

Request To Allow Use of an AMOC

UPS requests that we revise the NPRM to allow AD 2002-24-51 as an AMOC and terminating action to the proposed requirements of the NPRM. As justification, UPS states that there is no opportunity for potential ignition sources to develop from the center tank fuel pump, since AD 2002-24-51 prohibits operating the fuel pumps when the center tank fuel quantity reaches 1,000 pounds; under this limitation, the fuel pump is submerged and always covered with fuel. UPS believes that the limitations required by AD 2002-24-51 provide a higher level of safety than the automatic shutoff system because the limitations of AD 2002-24-51 always require the fuel pumps to be submerged in fuel, precluding the opportunity for dry running the pumps. UPS further states that, since Boeing Service Bulletin 757-28A0105, Revision 1, dated April 2, 2007, was issued to counteract the potential continued dry running of the fuel pump, it should not be required for operators who have accomplished AD 2002-24-51.

We do not agree to allow AD 2002-24-51 as an AMOC or terminating action for the requirements of this AD. The changes to the pump control system required by this AD address problems with the system, such as indication failures and power relay failures, that the limitations required by AD 2002-24-51 do not address. Further, the FAA Flight Standards Service has informed us that there are flights where the fuel pumps are not turned off as required by AD 2002-24-51 because of the lack of crew indication prompting early shutoff of the fuel pumps. AD 2002-24-51 was intended only to be an interim action until the pump power control system changes were developed and incorporated. We have determined that installing the automatic shutoff system provides a higher level of safety because it prevents extended dry running of the fuel pumps. Therefore, we have not changed this AD in this regard.

Request To Revise AWLs Intervals

KLM Royal Dutch Airlines, on behalf of several operators, requests that we review a 45-page proposal to align certain Airworthiness Limitation Item (ALI) intervals with the applicable maintenance significant item (MSI) and enhanced zonal analysis procedure (EZAP) intervals, for Model 737, 747, 757, 767, and 777 airplanes. The recommendations in that proposal ensure that the ALI intervals align with the maintenance schedule of the operators.

We have reviewed the proposal and note that it recommends extending the inspection interval for AWL No. 28-AWL-20 from 1 year to 24 months. We infer that the operators request that we revise paragraph (m) of this AD to extend the inspection interval for AWL No. 28-AWL-20 of Boeing Temporary Revision (TR) 09-006, dated January 2007, to the Boeing 757 Maintenance Planning Document, D622N001-9. That 1-year interval was determined using a quantitative fault tree analysis. Given the confidence level of certain inputs into that analysis, it would not be appropriate to extend the inspection interval until sufficient reliability data is available to substantiate those assumptions. Therefore, we have determined that a 1-year interval is appropriate for ensuring an acceptable level of safety. No change to this AD is necessary in this regard.

Request To Explain Compliance With Industry Guidance

TDG Aerospace requests that we specify whether the service bulletins referred to in the NPRM are in compliance with the requirements of section 25.981(a) and (b) of the Federal Aviation Regulations (14 CFR 25.981(a) and (b)) and with section 25.1309(c) of the Federal Aviation Regulations (14 CFR 25.1309(c)) with respect to latent failure conditions. If so, TDG Aerospace further requests that we discuss any inaccuracies between the service bulletins and FAA Advisory Circular (AC) 25.981-1B, “Fuel Tank Ignition Source Prevention Guidelines,” dated April 18, 2001; AC 25.1309-1A, “System Design and Analysis,” dated June 21, 1988; and MIL-HDBK-217F, “Reliability Prediction of Electronic Equipment.”

The Boeing service bulletins referred to in this AD are FAA-approved and were found to comply with the requirements of 14 CFR 25.981(a) and (b), amendment 25-102. In developing the service bulletins, Boeing followed the guidance cited by TDG Aerospace. Boeing's substantiation included other features with the fuel pump that contribute an additional condition probability to the latent failure cases referred to by TDG Aerospace. No change to this AD is necessary in this regard.

Request To Adopt an Industry-Collaborative Approach

TDG Aerospace suggests that we use the regulatory docket as a tool to encourage industry participation in the pursuit of solutions to known deficiencies that we intend to address with an AD. TDG Aerospace suggests that such an approach would not only result in the most efficient and cost-effective solutions, but also reduce the delay in bringing viable corrective actions to the market.

We welcome any feedback that will improve the AD process for industry, while also ensuring that an unsafe condition is adequately addressed in an appropriate amount of time. As stated previously, the burden of developing a means for correcting the unsafe condition is placed on the OEM. We have found that the comment period is most useful if we notify operators about the work required by a proposed AD, which is typically detailed in a service bulletin. Also, in determining the appropriate compliance time for an AD, we must consider both the risk and scope of work that would be required. Without service information, it would be difficult to set appropriate compliance times, or provide operators with an opportunity to comment on the merits of a corrective action. No change to this AD in necessary in this regard.

Conclusion

We reviewed the relevant data, considered the comments received, and determined that air safety and the public interest require adopting the AD with the changes described previously. We also determined that these changes will not increase the economic burden on any operator or increase the scope of the AD.

Costs of Compliance

There are about 1,094 airplanes of the affected design in the worldwide fleet. The following table provides the estimated costs, at an average labor rate of $80 per hour, for U.S. operators to comply with this AD. The estimated cost of parts in the following table depends on the airplane configuration.

Estimated Costs
Model | Action | Work hours | Parts | Cost per airplane | Number of U.S.- registered airplanes | Fleet cost
757-200, -200CB, and -200PF, series airplanes | Installation of the automatic shutoff system | 91 | $8,309 to $9,194 | $15,589 to $16,474 | 631 | $9,836,659 to $10,395,094.
757-300 series airplanes | Installation of the automatic shutoff system | 51 | $8,598 to $8,654 | $12,678 to $12,734 | 75 | $950,850 to $955,050.
757-200, -200CB, -200PF, and -300 series airplanes | Placard installation, if necessary | 1 | $10 | $90 | 706 | $63,540.
| AFM revision | 1 | None | $80 | 706 | $56,480.
| AWLs revision | 1 | None | $80 | 706 | $56,480.
| Installation of secondary pump control relays | 29 | $2,097 | $4,417 | 706 | $3,118,402.
| Concurrent modification of the fuel control panel assembly | 2 | $40 | $200 | 706 | $141,200

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Is not a “significant rule” under DOT Regulatory Policies and Procedures (44 FR 11034, February 26, 1979), and

(3) Will not have a significant economic impact, positive or negative, on a substantial number of small entities under the criteria of the Regulatory Flexibility Act.

You can find our regulatory evaluation and the estimated costs of compliance in the AD Docket.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

2008-11-07 Boeing: Amendment 39-15529. Docket No. FAA-2007-28598; Directorate Identifier 2007-NM-036-AD.

Effective Date

(a) This airworthiness directive (AD) is effective July 3, 2008.

Affected ADs

(b) Accomplishing certain paragraphs of this AD terminates certain requirements of AD 2002-24-51, amendment 39-12992.

Applicability

(c) This AD applies to all Boeing Model 757-200, -200CB, -200PF, and -300 series airplanes, certificated in any category.

Note 1: This AD requires revisions to certain operator maintenance documents to include new inspections of the automatic shutoff system for the center tank fuel boost pumps. Compliance with these inspections is required by 14 CFR 43.16 and 91.403(c). For airplanes that have been previously modified, altered, or repaired in the areas addressed by these inspections, the operator may not be able to accomplish the inspections described in the revisions. In this situation, to comply with 14 CFR 91.403(c), the operator must request approval for an alternative method of compliance according to paragraph (r) of this AD. The request should include a description of changes to the required inspections that will ensure acceptable maintenance of the automatic shutoff system.

Unsafe Condition

(d) This AD results from fuel system reviews conducted by the manufacturer. We are issuing this AD to prevent center tank fuel pump operation with continuous low pressure, which could lead to friction sparks or overheating in the fuel pump inlet that could create a potential ignition source inside the center fuel tank; these conditions, in combination with flammable fuel vapors, could result in a center fuel tank explosion and consequent loss of the airplane.

Compliance

(e) You are responsible for having the actions required by this AD performed within the compliance times specified, unless the actions have already been done.

Service Bulletin References

(f) The term “service bulletin,” as used in this AD, means the Accomplishment Instructions of the service bulletins identified in Table 1 of this AD, as applicable.

Table 1.—Service Bulletin References
Airplanes | Action | Service Bulletin
Model 757-200, -200CB, and -200PF series airplanes | Installation specified in paragraph (g) of this AD | Boeing Alert Service Bulletin 757-28A0081, dated February 16, 2006.
Model 757-300 series airplanes | Installation specified in paragraph (g) of this AD | Boeing Alert Service Bulletin 757-28A0082, dated February 16, 2006.
For Model 757-200, -200CB, -200PF, and -300 series airplanes | Installation specified in paragraph (k) of this AD | Boeing Service Bulletin 757-28A0105, Revision 1, dated April 2, 2007.

Installation of Automatic Shutoff System for the Center Tank Fuel Boost Pumps

(g) Within 36 months after the effective date of this AD: Install an automatic shutoff system for the center tank fuel boost pumps, by accomplishing all of the actions specified in the applicable service bulletin. If a placard has been previously installed on the airplane in accordance with paragraph (h) of this AD, the placard may be removed from the flight deck of only that airplane after the automatic shutoff system has been installed. Installing automatic shutoff systems on all airplanes in an operator's fleet, in accordance with this paragraph, terminates the placard installation required by paragraph (h) of this AD, for all airplanes in an operator's fleet.

Placard Installation for Mixed Fleet Operation

(h) Concurrently with installing an automatic shutoff system on any airplane in an operator's fleet, as required by paragraph (g) of this AD: Install a placard adjacent to the pilot's primary flight display on all airplanes in the operator's fleet not equipped with an automatic shutoff system for the center tank fuel boost pumps. The placard reads as follows (alternative placard wording may be used if approved by an appropriate FAA Principal Operations Inspector): “AD 2002-24-51 fuel usage restrictions required.”

Installation of a placard in accordance with paragraph (e) of AD 2002-19-52, amendment 39-12900, is acceptable for compliance with the requirements of this paragraph. Installing an automatic shutoff system on an airplane, in accordance with paragraph (g) of this AD, terminates the placard installation required by this paragraph, for only that airplane. Installing automatic shutoff systems on all airplanes in an operator's fleet, in accordance with paragraph (g) of this AD, terminates the placard installation required by this paragraph, for all airplanes in an operator's fleet. If automatic shutoff systems are installed concurrently on all airplanes in an operator's fleet in accordance with paragraph (g) of this AD, or if operation according to the fuel usage restrictions of AD 2002-24-51 is maintained until automatic shutoff systems are installed on all airplanes in an operator's fleet, the placard installation specified in this paragraph is not required.

Airplane Flight Manual (AFM) Revision

(i) Concurrently with accomplishing the actions required by paragraph (g) of this AD: Do the actions specified in paragraphs (i)(1) and (i)(2) of this AD.

(1) Revise Section 1 of the Limitations section of the Boeing 757 AFM to include the following statement. This may be done by inserting a copy of this AD in the AFM.

“Intentional dry running of a center tank fuel pump (CTR L FUEL PUMP or CTR R FUEL PUMP message displayed on EICAS) is prohibited.”

Note 2: When a statement identical to that in paragraph (i)(1) of this AD has been included in the general revisions of the AFM, the general revisions may be inserted into the AFM, and the copy of this AD may be removed from the AFM.

(2) Revise Section 3.1 of the Normal Procedures section of the Boeing 757 AFM to include the following statements. This may be done by inserting a copy of this AD in the AFM.

“Procedures contained on this page are applicable to airplanes equipped with the automatic center tank fuel pump power removal system per Boeing Service Bulletin 757-28A0081 (757-200 Series) or 757-28A0082 (757-300 Series).

CENTER TANK FUEL PUMPS

Center tank fuel pump switches must not be “ON” unless personnel are available in the flight deck to monitor low PRESS lights.

For ground operations prior to engine start: The center tank fuel pump switches must not be positioned ON unless the center tank contains usable fuel. With center tank fuel pump switches ON, verify both center tank fuel pump low PRESS lights are illuminated and EICAS CTR L FUEL PUMP and CTR R FUEL PUMP messages are displayed.

For ground operations after engine start and flight operations: The center tank fuel pump switch must be selected OFF when the respective CTR L FUEL PUMP or CTR R FUEL PUMP message displays. Both center tank fuel pump switches must be selected OFF when either the CTR L FUEL PUMP or CTR R FUEL PUMP message displays if the center tank is empty. During cruise flight, both center tank pump switches may be reselected ON whenever center tank usable fuel is indicated.

DE-FUELING AND FUEL TRANSFER

When transferring fuel or de-fueling center or main wing tanks, the center fuel pump low PRESS must be monitored and the fuel pump switches positioned to “OFF' at the first indication of low pressure. Prior to transferring fuel or de-fueling, conduct a lamp test of the respective fuel pump low PRESS lights.

De-fueling main wing tanks with passengers onboard is prohibited if main tank fuel pumps are powered. De-fueling center wing tank with passengers onboard is prohibited if the center wing tank fuel pumps are powered with the automatic center tank fuel pump power removal system inhibited. Fuel may be transferred from tank to tank, or the aircraft may be de-fueled with passengers onboard, provided fuel quantity in the tank from which fuel is being transferred from is maintained above 2,000 pounds (900 kilograms).”

Note 3: When statements identical to those in paragraph (i)(2) of this AD have been included in the general revisions of the AFM, the general revisions may be inserted into the AFM, and the copy of this AD may be removed from the AFM.

Airworthiness Limitations (AWLs) Revision for AWL No. 28-AWL-20

(j) Concurrently with accomplishing the actions required by paragraph (g) of this AD: Revise the AWLs section of the Instructions for Continued Airworthiness (ICA) by incorporating AWL No. 28-AWL-20 of Subsection G of Section 9 of the Boeing 757 Maintenance Planning Data (MPD) Document, D622N001-9, Revision January 2006, into the MPD. Accomplishing the revision in accordance with a later revision of the MPD is an acceptable method of compliance if the revision is approved by the Manager, Seattle Aircraft Certification Office (ACO), FAA.

Installation of Secondary Override Pump Control Relays

(k) Within 60 months after the effective date of this AD: Replace fuel control panel assembly part number 233N3206-( ) (equipment number M10055) with a modified fuel control assembly, install the secondary override pump control relays for the center tank fuel pumps in the P33 and P37 relay panels, and do all other specified actions as applicable, by accomplishing all of the applicable actions specified in the applicable service bulletin. The other specified actions must be accomplished before further flight after installing the secondary override pump control relays.

Concurrent Modification of the M10055 Fuel Control Panel Assembly

(l) For airplanes identified in paragraph 1.A.1. of Boeing Service Bulletin 757-28A0105, Revision 1, dated April 2, 2007, equipped with any fuel control panel assembly identified in paragraph 1.A. of BAE Systems Service Bulletin 233N3206-28-03, dated October 4, 2006: Before or concurrently with accomplishing the actions required by paragraph (k) of this AD, modify the fuel control panel assembly, in accordance with BAE Systems Service Bulletin 233N3206-28-03, dated October 4, 2006.

AWLs Revision for AWL No. 28-AWL-26

(m) Before or concurrently with accomplishing the actions required by paragraph (k) of this AD: Revise the AWLs section of the ICA by incorporating AWL No. 28-AWL-26 of Boeing Temporary Revision (TR) 09-006, dated January 2007, into the MPD. Boeing TR 09-006 is published as Section 9 of the Boeing 757 MPD Document, D622N001-9, Revision January 2007. Accomplishing the revision in accordance with a later revision of the MPD is an acceptable method of compliance if the revision is approved by the Manager, Seattle ACO.

Terminating Action for AD 2002-24-51

(n) Accomplishing the actions required by paragraphs (g), (h), (i), and (j) of this AD terminates the AFM limitations required by paragraph (e) of AD 2002-24-51 for Model 757-200, -200CB, -200PF, and -300 series airplanes that have the automatic shutoff system installed, except for the following limitation: “Warning Do not reset a tripped fuel pump circuit breaker.”

Except for this limitation, all other AFM limitations required by paragraph (e) of AD 2002-24-51 for Model 757-200, -200CB, -200PF, and -300 series airplanes may be removed from the AFM after accomplishing the actions required by paragraphs (g), (h), (i), and (j) of this AD.

Credit for Actions Done According to Previous Issue of Service Bulletin

(o) Actions accomplished before the effective date of this AD in accordance with Boeing Alert Service Bulletin 757-28A0105, dated January 31, 2007, are considered acceptable for compliance with the corresponding actions specified in paragraph (k) of this AD.

Terminating Action for Certain Airplanes

(p) For Model 757-200 and -300 series airplanes: Installing and maintaining TDG Aerospace, Inc. Universal Fault Interrupter (UFI), in accordance with Supplemental Type Certificate (STC) ST01950LA, terminates the actions required by paragraphs (g) through (m) of this AD; provided that, concurrently with installing a UFI on any airplane in an operator's fleet, a placard is installed adjacent to the pilot's primary flight display on all airplanes in the operator's fleet not equipped with a UFI. The placard reads as follows (alternative placard wording may be used if approved by an appropriate FAA Principal Operations Inspector): “AD 2002-24-51 fuel usage restrictions required.”

Installation of a placard in accordance with paragraph (e) of AD 2002-19-52 or paragraph (h) of this AD is acceptable for compliance with the placard installation required by this paragraph. Installing a UFI in accordance with STC ST01950LA, or an automatic shutoff system in accordance with paragraph (g) of this AD, on an airplane terminates the placard installation required by this paragraph for only that airplane. Installing UFIs in accordance with STC ST01950LA, or automatic shutoff systems in accordance with paragraph (g) of this AD, on all airplanes in an operator's fleet terminates the placard installation required by this paragraph for all airplanes in an operator's fleet. If UFIs or automatic shutoff systems are installed concurrently on all airplanes in an operator's fleet, or if operation according to the fuel usage restrictions of AD 2002-24-51 is maintained until UFIs or automatic shutoff systems are installed on all airplanes in an operator's fleet, the placard installation specified in this paragraph is not required.

Terminating Action for AWLs Revision

(q) Incorporating AWLs No. 28-AWL-20 and No. 28-AWL-26 into the AWLs section of the ICA in accordance with paragraph (g)(3) of AD 2008-10-11 terminates the corresponding action required by paragraphs (j) and (m) of this AD.

Alternative Methods of Compliance (AMOCs)

(r)(1) The Manager, Seattle ACO, has the authority to approve AMOCs for this AD, if requested in accordance with the procedures found in 14 CFR 39.19.

(2) To request a different method of compliance or a different compliance time for this AD, follow the procedures in 14 CFR 39.19. Before using any approved AMOC on any airplane to which the AMOC applies, notify your appropriate principal inspector (PI) in the FAA Flight Standards District Office (FSDO), or lacking a PI, your local FSDO.

Material Incorporated by Reference

(s) You must use the service information contained in Table 2 of this AD to do the actions required by this AD, as applicable, unless the AD specifies otherwise.

Table 2.—Material Incorporated by Reference
Service information | Revision | Date
BAE Systems Service Bulletin 233N3206-28-03 | Original | October 4, 2006.
Boeing Alert Service Bulletin 757-28A0081 | Original | February 16, 2006.
Boeing Alert Service Bulletin 757-28A0082 | Original | February 16, 2006.
Boeing Service Bulletin 757-28A0105 | 1 | April 2, 2007.
Boeing 757 Maintenance Planning Data Document, D622N001-9, Section 9, Subsection G | January 2006 | January 2006.
Boeing Temporary Revision 09-006 to the Boeing 757 Maintenance Planning Data Document, D622N001-9. Boeing Temporary Revision 09-006 is published as Section 9 of the Boeing 757 Maintenance Planning Data Document, D622N001-9, Revision January 2007 | Original | January 2007.

(1) The Director of the Federal Register approved the incorporation by reference of this service information under 5 U.S.C. 552(a) and 1 CFR part 51.

(2) For service information identified in this AD, contact Boeing Commercial Airplanes, P.O. Box 3707, Seattle, Washington 98124-2207.

(3) You may review copies of the service information that is incorporated by reference at the FAA, Transport Airplane Directorate, 1601 Lind Avenue, SW., Renton, Washington; or at the National Archives and Records Administration (NARA). For information on the availability of this material at NARA, call 202-741-6030, or go to: http://www.archives.gov/federal_register/code_of_federal_regulations/ibr_locations.html.

Issued in Renton, Washington, on May 8, 2008.
Michael J. Kaszycki,
Acting Manager, Transport Airplane Directorate, Aircraft Certification Service.

[FR Doc. E8-11275 Filed 5-28-08; 8:45 am]

BILLING CODE 4910-13-P